INTERNATIONAL TRADE COMMISSION

[Investigation No. 337-TA-857]

Certain Reduced Folate Nutraceutical Products and L-Methylfolate Raw Ingredients Used Therein; Commission Determination Not To Review Initial Determinations Terminating the Investigation as to Certain Respondents and Terminating the Investigation in the Entirety

AGENCY: U.S. International Trade Commission.

ACTION: Notice.

SUMMARY: Notice is hereby given that the U.S. International Trade Commission has determined not to review initial determinations (“IDs”) (Order Nos. 14-15) of the presiding administrative law judge terminating the investigation as to certain respondents on the basis of settlement agreements and withdrawal of the complaint, and terminating the investigation in the entirety. The investigation is hereby terminated.

FOR FURTHER INFORMATION CONTACT: James A. Worth, Office of the General Counsel, U.S. International Trade Commission, 500 E Street SW., Washington, DC 20436, telephone (202) 205-3065. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on October 16, 2012, based on a complaint filed on September 10, 2012, on behalf of South Alabama Medical Science Foundation of Mobile, Alabama (“SASF”); Merck & Cie of Altdorf, Switzerland (“Merck”); and Pamlab LLC of Covington, Louisiana (“Pamlab”). 77 FR 63336 (October 16, 2012). The complaint alleged violations of Section 337 of the Tariff Act of 1930, as amended, 19 U.S.C. 1337, in the sale for importation, importation, or sale within the United States after importation of certain reduced folate neutraceutical products and l-methylfolate raw ingredients used therein by reason of infringement of one or more of claims 37, 39, 40, 47, 66, 67, 73, 76,78-81, 83, 84, 86-89, 91, 92, 94-97, 99, 100, 110, 111, 113, 117, and 121 of U.S. Patent No. 5,997,915; claims 22, 26, and 32-38 of U.S. Patent No. 6,673,381; claims 1, 4-6, and 15 of U.S. Patent No. 7,172,778; and claims 1-3, 5, 6, 8, 9, 11-15, and 19-22 of U.S. Patent No. 6,011,040. The Commission's notice of investigation named as respondents Gnosis SpA of Desio, Italy; Gnosis Bioresearch SA of Sant'Antonino, Switzerland; Gnosis USA Inc. of Doylestown, Pennsylvania (collectively, “the Gnosis Respondents”); and Macoven Pharmaceuticals LLC of Magnolia, Texas (“Macoven”).

On December 13, 2012, the Commission issued notice of its determination not to review an ID adding Viva Pharmaceuticals LLC as a new respondent. On February 4, 2013, the Commission issued notice of its determination not to review an ID to identify the new respondent as Viva Pharmaceuticals Inc. (“Viva”) rather than Viva Pharmaceuticals LLC.

On May 10, 2013, complainants SASF, Merck, and Pamlab filed an unopposed corrected motion for leave to add Nestle Health Science-Pamlab Inc. (“NHS-Pamlab”) as a complainant and change Pamlab's name to Camline LLC (“Camline”). On June 11, 2013, the administrative law judge issued an ID (Order No. 12) granting the motion.

On June 4, 2013, complainants SASF, Merck, NHS-Pamlab, and Camline and respondents Macoven and Viva filed an unopposed joint motion to terminate the investigation based on two settlement agreements (i.e., one settlement agreement for each of these respondents). On June 11, 2013, the administrative law judge issued an ID (Order No. 14) granting the motion and found no indication that the settlement would have an adverse impact on the public interest.

Also on June 4, 2013, complainants SASF, Merck, NHS-Pamlab and Camline filed a motion to withdraw its amended complaint against the Gnosis Respondents. On June 11, 2013, the administrative law judge issued an ID (Order No. 15) granting the motion, finding good cause shown.

There were no petitions for review. Having considered the IDs (Order Nos. 14-15) and the relevant portions of the record, the Commission has determined not to review the subject IDs. The investigation is hereby terminated.

This action is taken under the authority of section 337 of the Tariff Act of 1930, as amended (19 U.S.C. 1337), and of Part 210 of the Commission's Rules of Practice and Procedure (19 CFR Part 210).

Issued: July 12, 2013.
By order of the Commission.
Lisa R. Barton,
Acting Secretary to the Commission.

[FR Doc. 2013-17175 Filed 7-17-13; 8:45 am]

BILLING CODE 7020-02-P